DEPARTMENT OF HEALTH AND HUMAN SERVICES

National Institutes of Health

State-of-the-Science Conference on Management of Menopausal Symptoms; Notice

Notice is hereby given of the National Institutes of Health (NIH) “State-of-the-Science Conference on Management of Menopausal Symptoms” to be held March 21-23, 2005, in the NIH Natcher Conference Center, 45 Center Drive, Bethesda, Maryland 20892. The conference will begin at 8 a.m. on March 21 and 22, at 9 a.m. on March 23, and will be open to the public.

Women going through the menopause transition may experience a variety of symptoms, ranging from hot flashes, night sweats, and problems sleeping to loss of sexual desire, depression, vaginal dryness, and urinary and bleeding complaints. As many as two-thirds of all women may experience vasomotor symptoms, such as hot flashes and night sweats, in the years around the menopause transition. For some, the resulting discomfort greatly diminishes their quality of life.

For many decades menopausal hormone therapy (MHT) using estrogen (or, in a woman with a uterus, a combination of estrogen and a progestin) has been the therapy of choice for relieving menopause-related symptoms. But recently, several large clinical trials have found mixed results: a greater chance of serious health problems such as blood clots, stroke, heart disease, or breast cancer, and benefits like fewer hip fractures in certain groups of women using MHT. It is not clear how these findings apply to women with symptoms because these clinical trials were not designed to study such women but rather to test whether MHT could prevent chronic diseases or conditions of aging, such as heart disease or cognitive decline. Nevertheless, many women and their doctors are concerned about the use of MHT for their menopausal symptoms and interested in learning about alternatives.

Research has identified a number of hormonal and non-hormonal approaches that show promise for managing menopause-related symptoms. We urgently need a careful examination of these strategies for symptom management to provide women and their health care providers with options that will best control their symptoms and restore their quality of life.

During the first two days of the conference, experts will present information on the biology of the menopause transition, the nature of the symptoms women experience, and strategies for relieving the common problems associated with the menopause transition. After weighing all of the scientific evidence, an independent panel will prepare and present a state-of-the-science statement answering the following key conference questions:

• What is the evidence that the symptoms more frequently reported by middle-aged women are attributable to ovarian aging and senescence?

• When do the menopausal symptoms appear, how long do they persist and with what frequency and severity, and what is known about the factors that influence them?

• What is the evidence for the benefits and harms of commonly used interventions for relief of menopause-related symptoms?

• What are the important considerations in managing menopause-related symptoms in women with clinical characteristics or circumstances that may complicate decision-making?

• What are the future research directions for treatment of menopause-related symptoms and conditions?

On the final day of the conference, the panel chair will read the draft statement to the conference audience and invite comments and questions. A press conference will follow to allow the panel and chair to respond to questions from the media.

The National Institute on Aging and the NIH Office of Medical Applications of Research are the primary sponsors of this meeting.

Advance information about the conference and conference registration materials may be obtained from American Institutes for Research of Silver Spring, Maryland, by calling 888-644-2667 or by sending e-mail to menopause@air.org. American Institutes for Research's mailing address is 10720 Columbia Pike, Silver Spring, MD 20901. Registration information is also available on the NIH Consensus Development Program Web site at http://consensus.nih.gov.

Please Note: The NIH has recently instituted new security measures to ensure the safety of NIH employees, visitors, patients, and facilities. All visitors must be prepared to show a photo ID upon request. Visitors may be required to pass through a metal detector and have bags, backpacks, or purses inspected or x-rayed as they enter NIH buildings. For more information about the new security measures, please visit the Web site at http://www.nih.gov/about/visitorssecurity.htm.

Dated: February 8, 2005.
Raynard S. Kington,
Deputy Director, National Institutes of Health.

[FR Doc. 05-2829 Filed 2-14-05; 8:45 am]

BILLING CODE 4140-01-P